NUCLEAR REGULATORY COMMISSION

[NRC-2008-0639; Docket Nos. 030-05224 and 040-08478]

Notice of Availability of Environmental Assessment and Finding of No Significant Impact for License Amendments to Byproduct Materials License No. 29-00170-03 and Source Materials License No. SMB-1260, Incorporating the Decommissioning Plan for Bell Laboratories Murray Hill Facility in Murray Hill, NJ

AGENCY: Nuclear Regulatory Commission.

ACTION: Issuance of Environmental Assessment and Finding of No Significant Impact for License Amendment.

FOR FURTHER INFORMATION CONTACT: Steve Hammann, Health Physicist, Commercial and R&D Branch, Division of Nuclear Materials Safety, Region I, 475 Allendale Road, King of Prussia, Pennsylvania; telephone 610-337-5399; fax number 610-337-5269; or by e-mail: stephen.hammann@nrc.gov.

SUPPLEMENTARY INFORMATION:

I. Introduction

The U.S. Nuclear Regulatory Commission (NRC) is considering the issuance of license amendments to Byproduct Materials License No. 29-00170-03 and Source Materials License No. SMB-1260. The licenses are held by Bell Laboratories (the Licensee), for its Murray Hill Facility, located at 600 Mountain Avenue in Murray Hill, New Jersey (the Facility). Issuance of the amendments would incorporate the Decommissioning Plan (DP) into the licenses to allow completion of decommissioning activities at the site and subsequent release of the Facility, except one room in the Radiation Lab, for unrestricted use and the termination of its NRC materials licenses. The room which is not being released is covered by NRC License No. 29-00170-08. The NRC has evaluated and approved the Licensee's DP. The findings of this evaluation are documented in a Safety Evaluation Report which will be issued along with the amendments. The Licensee requested these actions in a letter dated June 12, 2008. The Licensee's amendment requests were noted in the Federal Register on December 8, 2008 (73 FR 74529). This Federal Register notice also provided an opportunity for a hearing on these licensing actions. No hearing requests were received. The NRC has prepared an Environmental Assessment (EA) in support of the proposed actions in accordance with the requirements of Title 10, Code of Federal Regulations (CFR), Part 51 (10 CFR Part 51). Based on the EA, the NRC has concluded that a Finding of No Significant Impact (FONSI) is appropriate with respect to the proposed actions. The amendments will be issued to the Licensee following the publication of this FONSI and EA in the Federal Register.

II. Environmental Assessment

Identification of Proposed Action

The proposed actions would approve the Licensee's June 12, 2008 license amendment requests to incorporate the DP into the licenses, resulting in decommissioning of the facility and subsequent release of the Facility, except one room in the Radiation Lab, for unrestricted use and the termination of its NRC materials licenses. The room which is not being released is covered by NRC License No. 29-00170-08. License No. 29-00170-03 was issued on January 25, 1957, pursuant to 10 CFR Part 30, and License No. SMB-1260 was issued on December 2, 1975, pursuant to 10 CFR Part 40. Both licenses have been amended periodically since the issue dates. These licenses authorized the Licensee to use sealed and unsealed byproduct material and source material for the purpose of conducting research and development activities on laboratory bench tops and in hoods.

The Facility is situated on 196 acres and encompasses fifteen buildings. The buildings in which licensed materials were used consist of office space and laboratories. The Facility is located in a mixed residential/commercial area. Within the Facility, use of licensed materials was confined to Buildings 1,2,6,7 and 15. Notification that all licensed activities had ceased was received April 26, 2007.

Need for the Proposed Action

The proposed actions are to approve the DP so that the Licensee may complete Facility decommissioning activities. Completion of the decommissioning activities will reduce residual radioactivity at the Facility. NRC regulations require licensees to begin timely decommissioning of their sites, or any separate buildings that contain residual radioactivity, upon cessation of licensed activities, in accordance with 10 CFR 30.36(d) and 10 CFR 40.42(d). The proposed licensing actions will support such a goal. NRC is fulfilling its responsibilities under the Atomic Energy Act to make a decision on the proposed license amendments for decommissioning that ensures protection of the public health and safety.

Environmental Impacts of the Proposed Action

The historical review of licensed activities conducted at the Facility shows that such activities involved research and development activities using sealed and unsealed byproduct material and source material. The licensed materials were always stored and used inside buildings with no releases.

The NRC staff has reviewed the Licensee amendment requests for the Facility and examined the impacts of these license amendment requests. Potential impacts include water resource impact (e.g., water may be used for dust control), air quality impacts from dust emissions, temporary local traffic impacts resulting from transporting debris, human health impacts, noise impacts from equipment operation, scenic quality impacts, and waste management impacts.

Based on its review, the staff has determined that no surface water or ground water impacts are expected from the decommissioning activities. Additionally, the staff has determined that significant air quality, noise, land use, and off-site radiation exposure impacts are also not expected. No significant air quality impacts are anticipated because of the limited amount of contamination and the controls that will be implemented by the Licensee during decommissioning activities. In addition, the environmental impacts associated with the decommissioning activities are bounded by impacts evaluated by NUREG-0586, “Final Generic Environmental Impact Statement on the Decommissioning of Nuclear Facilities,” (GEIS). Generic impacts for this type of decommissioning process were previously evaluated and described in the GEIS, which concludes that the environmental consequences are small. The risk to human health from the transportation of all radioactive material in the U.S. was evaluated in NUREG-0170, “Final Environmental Statement on the Transportation of Radioactive Materials by Air and Other Modes.” The principal radiological environmental impact during normal transportation is direct radiation exposure to nearby persons from radioactive material in the package. The average annual individual dose from all radioactive material transportation in the U.S. was calculated to be approximately 0.5 millirem, well below the 10 CFR 20.1301 limit of 100 millirem for a member of the public. These proposed actions will not significantly increase the probability or consequences of accidents, no changes are being made in the types of any effluents that may be released off site, and there is no significant increase in occupational or public radiation exposure. Thus, waste management and transportation impacts from the decommissioning will not be significant.

Occupational health was also considered in the “Final Environmental Impact Statement on the Transportation of Radioactive Material by Air and Other Modes.” Shipment of these materials would not affect the assessment of environmental impacts or the conclusions in the “Final Environmental Impact Statement on the Transportation of Radioactive Material by Air and Other Modes.”

The Staff also finds that the proposed license amendments will meet the radiological criteria for unrestricted release as specified in 10 CFR 20.1402. The Licensee demonstrated this through the development of derived concentration guideline limits (DCGLs) for its Facility. The Licensee conducted site-specific dose modeling using parameters specific to the Facility that adequately bounded the potential dose.

The Licensee will maintain an appropriate level of radiation protection staff, procedures, and capabilities, and, through its Radiation Safety Officer, will implement an acceptable program to keep exposure to radioactive materials as low as reasonably achievable (ALARA). Work activities are not anticipated to result in radiation exposures to the public in excess of ten percent of the 10 CFR 20.1301 limits.

The NRC also evaluated whether cumulative environmental impacts could result from an incremental impact of the proposed action when added to other past, present, or reasonably foreseeable future actions in the area. The proposed NRC approval of the license amendment requests, when combined with known effects on resource areas at the site, including further site remediation, are not anticipated to result in any cumulative impacts at the site.

Environmental Impacts of the Alternatives to the Proposed Action

The only alternative to the proposed action of decommissioning the Facility is the no-action alternative, under which the staff would leave things as they are by simply denying the amendment requests. This no-action alternative is not feasible because it conflicts with 10 CFR 30.36(d) and 10 CFR 40.42(d), requiring that decommissioning of byproduct material and source material facilities be completed and approved by the NRC after licensed activities cease. Additionally, denying the amendment requests would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the New Jersey Department of Environmental Protection for review on June 3, 2009. On July 8, 2009, the New Jersey Department of Environmental Protection responded by letter. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendments and supporting documentation, are available electronically at the NRC's Electronic Reading Room at http://www.nrc.gov/reading-rm/adams.html. From this site, you can access the NRC's Agencywide Documents Access and Management System (ADAMS), which provides text and image files of NRC's public documents. The documents related to this action are listed below, along with their ADAMS accession numbers.

1. NUREG-1757, “Consolidated NMSS Decommissioning Guidance;”

2. Title 10, Code of Federal Regulations, Part 20, Subpart E, “Radiological Criteria for License Termination;”

3. Title 10, Code of Federal Regulations, Part 51, “Environmental Protection Regulations for Domestic Licensing and Related Regulatory Functions;” and

4. NUREG-1496, “Generic Environmental Impact Statement in Support of Rulemaking on Radiological Criteria for License Termination of NRC-Licensed Nuclear Facilities.”

5. Submittal Letter dated June 12, 2008 (ML081910071).

6. Decommissioning Plan, Volume 1 (ML081910076).

7. Decommissioning Plan, Volume 2 (ML081910083).

8. Review of Decommissioning Plan dated April 6, 2009 (ML090960301).

9. Deficiency Response Letter dated May 21, 2009 (ML091470227).

10. Federal Register Notice of Consideration (ML083360193).

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at 475 Allendale Road, King of Prussia, PA, this 28th day of July 2009.
For the Nuclear Regulatory Commission.
James P. Dwyer,
Chief, Commercial and R&D Branch, Division of Nuclear Materials Safety, Region I.

[FR Doc. E9-18820 Filed 8-5-09; 8:45 am]

BILLING CODE 7590-01-P